DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Alabama: Madison (FEMA Docket No.: B-2361). | City of Huntsville (23-04-2057P). | The Honorable Thomas Battle Jr., Mayor, City of Huntsville, 308 Fountain Circle, 8th Floor, Huntsville, AL 35801. | City Hall, 308 Fountain Circle, Huntsville, AL 35801. | Oct. 5, 2023 | 010153
Colorado:
Gilpin (FEMA Docket No.: B-2361). | City of Black Hawk (22-08-0228P). | The Honorable David D. Spellman, Mayor, City of Black Hawk, P.O. Box 68, Black Hawk, CO 80422. | Community Planning and Development Department, 211 Church Street, Black Hawk, CO 80422. | Sep. 22, 2023 | 080076
Gilpin (FEMA Docket No.: B-2361). | City of Central City (22-08-0228P). | The Honorable Jeremy Fey, Mayor, City of Central City, P.O. Box 249, Central City, CO 80427. | City Hall, 141 Nevada Street, Central City, CO 80427. | Sep. 22, 2023 | 080077
Florida:
Lake (FEMA Docket No.: B-2361). | City of Leesburg (22-04-3930P). | Al Minner, Manager, City of Leesburg, P.O. Box 490630, Leesburg, FL 34749. | Public Works Department, 501 West Meadow Street, Leesburg, FL 34748. | Sep. 25, 2023 | 120136
Lake (FEMA Docket No.: B-2361). | Unincorporated areas of Lake County (22-04-3930P). | Jennifer Barker, Lake County Manager, P.O. Box 7800, Tavares, FL 32778. | Lake County Public Works Department, 323 North Sinclair Avenue, Tavares, FL 32778. | Sep. 25, 2023 | 120421
Manatee (FEMA Docket No.: B-2361). | Unincorporated areas of Manatee County (23-04-0814P). | Lee Washington, Manatee County Administrator, 1112 Manatee Avenue West, Bradenton, FL 34205. | Manatee County Administration Building, 1112 Manatee Avenue West, Bradenton, FL 34205. | Sep. 25, 2023 | 120153
Orange (FEMA Docket No.: B-2361). | Unincorporated areas of Orange County (21-04-3684P). | The Honorable Jerry L. Demings, Mayor, Orange County, 201 South Rosalind Avenue, 5th Floor, Orlando, FL 32801. | Orange County Public Works Department, Stormwater Management Division, 4200 South John Young Parkway, Orlando, FL32839. | Sep. 22, 2023 | 120179
Pinellas (FEMA Docket No.: B-2361). | City of Clearwater (23-04-0224P). | The Honorable Brian Aungst, Sr., Mayor, City of Clearwater, 600 Cleveland Street, 6th Floor, Clearwater, FL 33756. | City Hall, 100 South Myrtle Avenue, Clearwater, FL 33756. | Sep. 28, 2023 | 125096
Sumter (FEMA Docket No.: B-2361). | City of Wildwood (22-04-4208P). | The Honorable Ed Wolf, Mayor, City of Wildwood, 100 North Main Street, Wildwood, FL 34785. | Sumter County Service Center, 7375 Powell Road, Wildwood, FL 34785. | Sep. 22, 2023 | 120299
Sumter (FEMA Docket No.: B-2361). | Unincorporated areas of Sumter County (22-04-4208P). | Bradley Arnold, Sumter County Administrator, 7375 Powell Road, Wildwood, FL 34785. | Sumter County Service Center, 7375 Powell Road, Wildwood, FL 34785. | Sep. 22, 2023 | 120296
Georgia: DeKalb (FEMA Docket No.: B-2361). | Unincorporated areas of DeKalb County (23-04-0174P). | Michael L Thurmond, Chief Executive Officer, DeKalb County, 1300 Commerce Drive, 6th Floor, Decatur, GA 30030. | DeKalb County Roads and Drainage Department, 727 Camp Road, Decatur, GA 30032. | Sep. 22, 2023 | 130065
Maryland: Montgomery (FEMA Docket No.: B-2361). | Unincorporated areas of Montgomery County (22-03-0958P). | Marc Elrich, Montgomery County Executive, 101 Monroe Street, 2nd Floor, Rockville, MD 20850. | Montgomery County Department of Permitting Services, 2425 Reedie Drive, 7th Floor, Wheaton, MD 20902. | Sep. 25, 2023 | 240049
Montana: Gallatin (FEMA Docket No.: B-2352). | Unincorporated areas of Gallatin County (23-08-0301P). | Zach Brown, Chair, Gallatin County Commission, 311 West Main Street, Room 306, Bozeman, MT 59715. | Gallatin County Department of Planning and Community Development, 311 West Main Street, Room 108, Bozeman, MT 59715. | Sep. 18, 2023 | 300027
South Carolina: Berkeley (FEMA Docket No.: B-2361). | Unincorporated areas of Berkeley County (22-04-5274P). | Johnny Cribb, Berkeley County Supervisor, 1003 Highway 52, Moncks Corner, SC 29461. | Berkeley County Planning and Zoning Department, 1003 Highway 52, Moncks Corner, SC 29461. | Sep. 21, 2023 | 50029
Texas:
Bexar (FEMA Docket No.: B-2361). | Unincorporated areas of Bexar County (22-06-2152P). | The Honorable Peter Saki, Bexar County Judge, 101 West Nueva Street, 10th Floor, San Antonio, TX 78205. | Bexar County Public Works Department, 1948 Probandt Street, San Antonio, TX 78205. | Sep. 25, 2023 | 480035
Denton (FEMA Docket No.: B-2361). | City of Fort Worth (23-06-0297P). | The Honorable Mattie Parker, Mayor, City of Fort Worth, 200 Texas Street, Fort Worth, TX 76102. | T/PW Engineering Vault, 200 Texas Street, Fort Worth, TX 76102. | Sep. 25, 2023 | 480596
Ellis (FEMA Docket No.: B-2361). | City of Grand Prairie (22-06-2534P). | The Honorable Ron Jensen, Mayor, City of Grand Prairie, P.O. Box 534045, Grand Prairie, TX 75053. | City Hall, 300 West Main Street, Grand Prairie, TX 75050. | Sep. 14, 2023 | 480798
Ellis (FEMA Docket No.: B-2361). | Unincorporated areas of Ellis County (22-06-2534P). | The Honorable Todd Little, Ellis County Judge, 101 West Main Street, Waxahachie, TX 75165. | Ellis County Courts and Administration, 109 South Jackson Street, Waxahachie, TX 75165. | Sep. 14, 2023 | 480798
Hays (FEMA Docket No.: B-2361). | Unincorporated areas of Hays County (23-06-0307P). | The Honorable Ruben Becerra, Hays County Judge, 111 East San Antonio Street, Suite 300, San Marcos, TX 78666. | Hays County Development Services Department, 2171 Yarrington Road, Suite 100, Kyle, TX 78640. | Sep. 28, 2023 | 480321
Kaufman (FEMA Docket No.: B-2361). | Unincorporated areas of Kaufman County (23-06-0527P). | The Honorable Jakie Allen, Kaufman County Judge, 1902 East U.S. Highway 175, Kaufman, TX 75142. | Kaufman County Development Services Department, 106 West Grove Street, Kaufman, TX 75142. | Sep. 29, 2023 | 480411
Tarrant (FEMA Docket No.: B-2361). | City of Arlington (23-06-0354P). | The Honorable Jim Ross, Mayor, City of Arlington, P.O. Box 90231, Arlington, TX 76004. | Public Works and Transportation Department, 101 West Abram Street, Arlington, TX 76004. | Sep. 18, 2023 | 485454
Tarrant (FEMA Docket No.: B-2361). | City of Fort Worth (23-06-0306P). | The Honorable Mattie Parker, Mayor, City of Fort Worth, 200 Texas Street, Fort Worth, TX 76102. | Transportation and Public Works Department, Engineering Vault, 200 Texas Street, Fort Worth, TX 76102. | Sep. 18, 2023 | 480596
Tarrant (FEMA Docket No.: B-2361). | City of Fort Worth (23-06-0361P). | The Honorable Mattie Parker, Mayor, City of Fort Worth, 200 Texas Street, Fort Worth, TX 76102. | Transportation and Public Works Department, Engineering Vault, 200 Texas Street, Fort Worth, TX 76102. | Sep. 25, 2023 | 480596
Tarrant (FEMA Docket No.: B-2361). | City of Haltom City (23-06-0193P). | The Honorable An Truong, Mayor, City of Haltom City, 5024 Broadway Avenue, Haltom City, TX 76117. | Public Works Department, 4200 Hollis Street, Haltom City, TX 76111. | Sep. 18, 2023 | 480599
Tarrant (FEMA Docket No.: B-2361). | Unincorporated areas of Tarrant County (23-06-0306P). | The Honorable Tim O'Hare, Tarrant County Judge, 100 East Weatherford Street, Suite 501, Fort Worth, TX 76196. | Tarrant County Administration Building, 100 East Weatherford Street, Fort Worth, TX 76196. | Sep. 18, 2023 | 480582
Wise (FEMA Docket No.: B-2361). | City of New Fairview (23-06-0882P). | The Honorable John R. Taylor, Mayor, City of New Fairview, 999 Illinois Lane, New Fairview, TX 76078. | Public Works Department, 999 Illinois Lane, New Fairview, TX 76078. | Sep. 22, 2023 | 481629
Wise (FEMA Docket No.: B-2361). | Unincorporated areas of Wise County (23-06-0882P). | The Honorable J.D. Clark, Wise County Judge, 101 North Trinity Street, Decatur, TX 76234. | Wise County Public Works Department, 2901 South F.M. 51, Building 100, Decatur, TX 76234. | Sep. 22, 2023 | 481051

[FR Doc. 2023-22591 Filed 10-11-23; 8:45 am]

BILLING CODE 9110-12-P